DEPARTMENT OF VETERANS AFFAIRS

Health Services Research and Development Service Merit Review Board; Notice of Meeting

The Department of Veterans Affairs (VA) gives notice under Public Law 92-463 (Federal Advisory Committee Act) that a meeting of the Health Services Research and Development Service Merit Review Board will be held August 30-31, 2011, at the Red Lion Hotel on Fifth Avenue, 1415 5th Avenue, Seattle, WA. Various subcommittees of the Board will meet. Each subcommittee meeting of the Merit Review Board will be open to the public the first day for approximately one half-hour from 8 a.m. until 8:30 a.m. to cover administrative matters and to discuss the general status of the program. The remaining portion of the meetings will be closed. The closed portion of each meeting will involve discussion, examination, reference to, and oral review of the research proposals and critiques.

The purpose of the Board is to review research and development applications involving the measurement and evaluation of health care services, the testing of new methods of health care delivery and management, and nursing research. Applications are reviewed for scientific and technical merit. Recommendations regarding funding are submitted to the Chief Research and Development Officer.

On August 30, the subcommittees on Nursing Research Initiatives and Research Best Practices will convene from 8 a.m. to 3 p.m.; and the Career Development Award will convene from 8 a.m. to 5:30 p.m. On August 31, the subcommittee on Career Development Award will reconvene from 8 a.m. to 3 p.m. and six subcommittees on Health Services Research (HSR 1—Medical Care and Clinical Management; HSR 2—Determinants of Patient Response to Care; HSR 3—Informatics and Research Methods Development; HSR 4—Mental and Behavioral Health; HSR 5—Health Care System Organization and Delivery; and HSR 6—Post-acute and Long-term Care) will convene from 8 a.m. to 5:30 p.m.

During the closed portion of each meeting, discussion and recommendations will include qualifications of the personnel conducting the studies (the disclosure of which would constitute a clearly unwarranted invasion of personal privacy), as well as research information (the premature disclosure of which would likely compromise significantly the implementation of proposed agency action regarding such research projects). As provided by subsection 10(d) of Public Law 92-463, as amended by Public Law 94-409, closing portions of each meeting is in accordance with 5 U.S.C. 552b(c)(6) and (9)(B).

Those who plan to attend the open session should contact Kristy Benton-Grover, Scientific Merit Review Program Manager, at Department of Veterans Affairs, Health Services Research and Development (10P9H), 810 Vermont Avenue, NW., Washington, DC 20420, or e-mail at Kristy.benton-grover@va.gov. For further information, please call Mrs. Benton-Grover at (202) 443-5728.

By Direction of the Secretary.
Dated: July 12, 2011.
Vivian Drake,
Acting Committee Management Officer.

[FR Doc. 2011-17952 Filed 7-15-11; 8:45 am]

BILLING CODE 8320-01-P